DEPARTMENT OF THE TREASURY

Office of the Comptroller of the Currency

12 CFR Parts 4, 5, 7, 8, 28, and 34

[Docket ID OCC-2011-0006]

RIN 1557-AD41

Office of Thrift Supervision Integration; Dodd-Frank Act Implementation; Correction

Correction

In proposed rule document 2011-13887 appearing on page 32332 in the issue of Monday, June 6, 2011, make the following correction:

In the second column, in the SUPPLEMENTARY INFORMATION section, in the first paragraph, in the tenth line, “regs.comments@occ.treas.gov” should read “regs.comments@occ.gov”.

[FR Doc. C1-2011-13887 Filed 6-23-11; 8:45 am]

BILLING CODE 4810-33-P